DEPARTMENT OF COMMERCE

National Oceanic and Atmospheric Administration

RIN 0648-XG717

Magnuson-Stevens Act Provisions; Fisheries of the Northeastern United States; Northeast Multispecies Fishery; Approved Monitoring Service Providers

AGENCY: National Marine Fisheries Service (NMFS), National Oceanic and Atmospheric Administration (NOAA), Commerce.

ACTION: Notice of approved monitoring service providers.

SUMMARY: NMFS has approved four companies to provide Northeast multispecies sector at-sea monitoring services in fishing years 2019 and 2020. Regulations implementing the Northeast Multispecies Fishery Management Plan require at-sea monitoring companies to apply to, and be approved by, NMFS in order to be eligible to provide at-sea monitoring services to sectors. This action will allow sectors to contract at-sea monitoring services with any of the approved providers for fishing years 2019 and 2020.

ADDRESSES: The list of NMFS-approved sector monitoring service providers is available at: http://www.greateratlantic.fisheries.noaa.gov/sustainable/species/multispecies/, or by sending a written request to: 55 Great Republic Drive, Gloucester, MA 01930, Attn: Kyle Molton.

FOR FURTHER INFORMATION CONTACT: Kyle Molton, Fishery Management Specialist, (978) 281-9236, email Kyle.Molton@noaa.gov.

SUPPLEMENTARY INFORMATION: The Northeast Multispecies Fishery Management Plan (FMP) includes a requirement for industry-funded monitoring of catch by sector vessels. Sectors must contract with independent third-party service providers to provide at-sea monitoring services to their vessels. In order to provide at-sea monitoring services to sectors, monitoring companies must apply to, and be approved by, NMFS. Once approved, service providers must meet specified performance requirements outlined in 50 CFR 648.87(b)(4), including required coverage levels, in order to maintain eligibility.

At-Sea Monitoring Service Provider Approval Process

Applications approved this year will cover both fishing year 2019 and fishing year 2020 (May 1, 2019, through April 30, 2021). There will be an opportunity in 2019 for additional monitoring companies to apply for approval to provide services in fishing year 2020.

The regulations at § 648.87(b)(4) describe the criteria for approval of at-sea monitoring service providers. We approve service providers based on: (1) Completeness and sufficiency of applications; and (2) determination of the applicant's ability to meet the performance requirements of a sector monitoring service provider. We must notify service providers, in writing, if approval is withdrawn for any reason.

Approved Monitoring Service Providers

We received complete applications from four companies: A.I.S., Inc.; East West Technical Services, LLC; Fathom Research, LLC; and MRAG Americas, Inc. These four companies were previously approved for fishing years 2017 and 2018. In fishing year 2018, a number of sectors have realized at-sea monitoring coverage levels below the target coverage level. We are working with the approved providers and sectors to increase coverage levels, and we have scheduled additional at-sea monitor certification trainings to increase monitor staffing levels.

We approved all four companies to provide at-sea monitoring services in fishing years 2019 and 2020 because they have met the application requirements, documented their ability to comply with service provider standards, and have a sufficient track record of providing at-sea monitoring services. We expect providers will have adequate staff and resources to fulfill performance requirements during the approval term. We will closely monitor the performance of approved providers, and we will be prepared to withdraw approval during the current approval term, or disapprove a provider in future fishing years if we determine performance standards are not being met.

Table 1—Approved Providers for Fishing Years 2019 and 2020
Provider | Address | Phone | Fax | Website
A.I.S., Inc | 14 Barnabas Rd., P.O. Box 1009, Marion, MA 02738 | 508-990-9054 | 508-990-9055 | www.aisobservers.com.
East West Technical Services, LLC | 1415 Corona Ln., Vero Beach, FL 32963 | 860-910-4957 | 860-223-6005 | www.ewts.com.
Fathom Research, LLC | 855 Aquidneck Ave., Unit 9, Middletown, RI 02842 | 508-990-0997 | 508-991-7372 | www.fathomresearchllc.com.
MRAG Americas, Inc | 8950 Martin Luther King Jr. Street N., Suite 202, Saint Petersburg, FL 33702 | 978-768-3880 | 978-768-3878 | www.mragamericas.com.

Authority: 16 U.S.C. 1801 et seq.

Dated: January 29, 2019.
Karen H. Abrams,
Acting Director, Office of Sustainable Fisheries, National Marine Fisheries Service.

[FR Doc. 2019-00720 Filed 1-31-19; 8:45 am]

BILLING CODE 3510-22-P